DEPARTMENT OF COMMERCE

International Trade Administration

[C-570-984]

Drawn Stainless Steel Sinks From the People's Republic of China: Final Results of Countervailing Duty Administrative Review and Rescission in Part; 2012-2013

AGENCY: Enforcement and Compliance, International Trade Administration, Department of Commerce.

SUMMARY: The Department of Commerce (the Department) has conducted an administrative review of the countervailing duty (CVD) order on drawn stainless steel sinks (sinks) from the People's Republic of China (PRC). The period of review (POR) is August 6, 2012, through December 31, 2013. On May 7, 2015, we published the preliminary results of this administrative review.¹ We invited interested parties to comment on the Preliminary Results. After reviewing the comments received, we have made no changes to the Preliminary Results. As such, we continue to find that Guangdong Dongyuan Kitchenware Industrial Co., Ltd. (Dongyuan) received countervailable subsidies during the POR. We also find that Shunde Native Produce Import and Export Co., Ltd. of Guangdong (Native Produce) did not have any reviewable entries during the POR.

¹ See Drawn Stainless Steel Sinks From the People's Republic of China: Preliminary Results of Countervailing Duty Administrative Review, Rescission in Part, and Intent to Rescind the Review in Part; 2012-2013, 80 FR 26226 (May 7, 2015) (Preliminary Results) and accompanying Preliminary Decision Memorandum.

DATES: Effective date: November 10, 2015.

FOR FURTHER INFORMATION CONTACT: Jennifer Meek, AD/CVD Operations, Office I, Enforcement and Compliance, International Trade Administration, U.S. Department of Commerce, 14th Street and Constitution Avenue NW., Washington, DC 20230; telephone: (202) 482-2778.

Scope of the Order

Drawn stainless steel sinks are sinks with single or multiple drawn bowls, with or without drain boards, whether finished or unfinished, regardless of type of finish, gauge, or grade of sinks. The products covered by this order are currently classified in the Harmonized Tariff Schedule of the United States (HTSUS) under statistical reporting number 7324.10.0000. Although the HTSUS subheading is provided for convenience and customs purposes, the written description of the scope of the order is dispositive.

A full description of the scope of the order is contained in the memorandum from Christian Marsh, Deputy Assistant Secretary for Enforcement and Compliance, to Paul Piquado, Assistant Secretary for Enforcement and Compliance, “Decision Memorandum for the Final Results of Countervailing Duty Administrative Review: Drawn Stainless Steel Sinks from the People's Republic of China” dated concurrently with this notice (Issues and Decision Memorandum), which is hereby adopted by this notice. A list of topics discussed in the Issues and Decision Memorandum is provided as Appendix I to this Notice.

The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed directly on the internet at http://enforcement.trade.gov/frn/index.html. The signed Issues and Decision Memorandum and the electronic version of the Issues and Decision Memorandum are identical in content.

Analysis of Comments Received

All issues raised in the case briefs submitted by parties are addressed in the Issues and Decision Memorandum. A list of the issues which parties raised and to which we respond in the Issues and Decisions Memorandum is attached to this notice as Appendix I. The Department conducted this review in accordance with section 751(a)(1)(A) of the Tariff Act of 1930, as amended (the Act). For each program found countervailable, we determine that there is a subsidy, i.e., a government-provided financial contribution that gives rise to a benefit to the recipient, and that the subsidy is specific.²

² See sections 771(5)(B)and (D) of the Act regarding financial contribution; section 771(5)(E) of the Act regarding benefit; and section 771(5A) of the Act regarding specificity.

In making these findings, we relied, in part, on facts available and, because we determine that the Government of the PRC did not act to the best of its ability to respond to the Department's requests for information, we applied an adverse inference in selecting from among the facts otherwise available.³ For a full description of the methodology underlying our conclusions, see the Issues and Decision Memorandum.

³ See sections 776(a) and (b) of the Act. For further information, see “Use of Facts Otherwise Available and Adverse Inferences” in the Issues and Decision Memorandum.

Final Determination of No Shipments and Rescission of the Review in Part

Based on our analysis of U.S. Customs and Border Protection (CBP) information and information provided by Native Produce, we determine that Native Produce did not have any reviewable entries during the POR. No evidence of shipments was placed on the record, therefore, pursuant to 19 CFR 351.213(d)(3), we are rescinding the administrative review of this company. For additional information regarding this determination, see the Issues and Decision Memorandum.

Final Results of the Review

In accordance with 19 CFR 351.221(b)(5), we calculated an individual subsidy rate for for 2012 and 2013, respectively, as set forth below.

Company | Subsidy rate (percent) 2013 | Subsidy rate (percent) 2012
Guangdong Dongyuan Kitchenware Industrial Co., Ltd | 9.83 | 3.91

Assessment Rates

Consistent with 19 CFR 351.212(b)(2), we intend to issue assessment instructions to CBP fifteen days after the date of publication of these final results. The Department will instruct CBP to liquidate shipments of subject merchandise produced and/or exported by Guangdong Dongyuan Kitchenware Industrial Co., Ltd. entered, or withdrawn from warehouse, for consumption for the periods on or after August 6, 2012 through December 3, 2012, and on or after April 10, 2013, through December 31, 2013. For entries made during the gap period ⁴ (i.e, on or after December 4, 2012 through April 9, 2013), we will instruct CBP to liquidate the entries without regard to countervailing duties pursuant to section 703(d) of the Tariff Act of 1930, as amended (the Act).

⁴ The gap period represents the period of time after the expiration of the 120-day provisional measures period during the investigation, to the day prior to the publication in the Federal Register of the U.S. International Trade Commission's Final Determination. In this administrative review, the gap period is December 4, 2012, to April 9, 2013.

For the rescinded company, countervailing duties shall be assessed at rates equal to the cash deposit of estimated countervailing duties required at the time of entry, or withdrawal from warehouse, for consumption, during the period on or after August 6, 2012, through December 3, 2012, and on or after April 10, 2013, through December 31, 2013, in accordance with 19 CFR 351.212(c)(1)(i).

Cash Deposit Requirements

In accordance with section 751(a)(2)(C) of the Act, the Department intends to instruct CBP to collect cash deposits of estimated countervailing duties in the amount shown above for Dongyuan, as determined for 2013, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

Administrative Protective Order

This notice serves as a final reminder to parties subject to administrative protective order (APO) of their responsibilities concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act and 19 CFR 351.213.

Dated: November 3, 2015.
Paul Piquado,
Assistant Secretary for Enforcement and Compliance.

Appendix I— List of Topics Discussed in the Issues and Decision Memorandum

Summary

A. Background

B. Scope of the Order

C. Partial Rescission of the Administrative Review

D. Use of Facts Otherwise Available and Adverse Inferences

E. Subsidy Valuation Information

F. Analysis of Programs

G. Analysis of Comments

Comment 1: Whether Dongyuan's Stainless Steel Supplier is an Authority

Comment 2: The Department's Refusal to Meet With Counsel for Dongyuan

Comment 3: The Department's Refusal to Permit the GOC to Submit Factual Information After the Preliminary Results

Comment 4: Whether the Stainless Steel Coil Industry in China is Distorted by Government Presence in the Market

Comment 5: Whether Working Capital Loans are a Part of the Policy Lending Program

H. Recommendation

[FR Doc. 2015-28664 Filed 11-9-15; 8:45 am]

BILLING CODE 3510-DS-P